DEPARTMENT OF ENERGY

Federal Energy Regulatory Commission

[Docket No. CP03-30-000]

BP West Coast Products, LLC, Atlantic Richfield Company, Intalco Aluminum Corporation; Notice of Filing

December 30, 2002.

Take notice that on December 18, 2002, BP West Coast Products, LLC (BP), Atlantic Richfield Company (Atlantic Richfield) and Intalco Aluminum Corporation (Intalco) jointly filed an amendment, pursuant to section 3 of the Natural Gas Act (NGA) and section 153 of the Federal Energy Regulatory Commission's regulations, 18 CFR 153 and Executive Order No. 10485, as amended by Executive Order No. 12038, to the section 3 Authorization and Presidential Permit (Permit) issued by the Commission in Docket No. CP89-267-000 to Atlantic Richfield and Intalco for the Ferndale Pipeline.¹ The purpose of the amendment is to insert BP's name into the Permit in lieu of Atlantic Richfield due to transferring of Atlantic Richfield's interest in the Ferndale Pipeline to BP.² The application is on file with the Commission and open to public inspection. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll free at (866)208-3676, or for TTY, contact (202) 502-8659.

¹ 49 FERC ] 61,294 (1989).

² Atlantic Richfield's interest in the Ferndale Pipeline became assets of BP on January 1, 2002.

BP and Intalco propose to continue to operate and maintain the existing facilities at the U.S./Canada border as authorized by the 1989 Permit. No additional facilities are proposed by this amendment. The filing does not seek any change in the terms and conditions of the Permit for the Ferndale Pipeline.

Any questions regarding the application are to be directed to Daniel M. Adamson, Davis Wright Tremaine LLP, 1500 K Street, NW., Suite 450, Washington, DC, 20005.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Motions to intervene, protests and comments may be filed electronically via the internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: January 21, 2003.

Linwood A. Watson, Jr.,
Deputy Secretary.

[FR Doc. 03-124 Filed 1-3-03; 8:45 am]

BILLING CODE 6717-01-P